DEPARTMENT OF ENERGY

Federal Energy Regulatory Commission

Notice of Application for Transfer of Licenses and Soliciting Comments, Motions To Intervene, and Protests

| Project No.
Duke Energy Progress, Inc | 432-138
Duke Energy Progress, LLC | 2206-052

On September 25, 2015, Duke Energy Progress, Inc. (transferor) and Duke Energy Progress, LLC (transferee) filed an application for transfer of licenses of the Walters Hydroelectric Project, FERC No. 432 located on the Pigeon River in Haywood County, North Carolina and the Yadkin Pee-Dee Hydroelectric Project, FERC No. 2206, located on the Yadkin and Pee Dee Rivers in Anson, Montgomery, Richmond, and Stanly Counties, North Carolina.

Duke Energy Progress, Inc. is an indirect subsidiary of Duke Energy Corporation. To modernize and simplify Duke Energy Corporation's structure, Duke Energy Progress, Inc. intends to convert to an LLC, (Duke Energy Progress, LLC). Duke Energy Progress, Inc. seeks Commission approval to transfer the licenses for the Walters Hydroelectric Project and the Yadkin Pee-Dee Hydroelectric Project to Duke Energy Progress, LLC in association with the conversion, effective on the date Duke Energy Progress, LLC submits certified copies of its articles of conversion, plans of conversion, and limited liability company operating agreements to the Commission.

Applicant Contact: For Applicants: Mr. Garry S. Rice, Deputy General Counsel, Duke Energy Corporation, 550 South Tryon Street, Mail Code DEC45A, Charlotte, NC 28202, Phone: 704-382-8111, Email: Garry.Rice@duke-energy.com and John A. Whittaker, IV, Winston & Strawn LLP, 1700 K Street NW., Washington, DC 20006-3817, Phone: 202-282-5766, Email: jwhittaker@wiston.com.

FERC Contact: Patricia W. Gillis, (202) 502-8735.

Deadline for filing comments, motions to intervene, and protests: 30 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number(s) P-432-138 or P-2206-052.

Dated: October 29, 2015.
Kimberly D. Bose,
Secretary.

[FR Doc. 2015-28088 Filed 11-3-15; 8:45 am]

BILLING CODE 6717-01-P